DEPARTMENT OF THE INTERIOR

Bureau of Land Management

[MT-010-1430-ET; MTM 89001]

Public Land Order No. 7492; Withdrawal of Public Land for the Four Dances Natural Area; Montana

AGENCY: Bureau of Land Management, Interior.

ACTION: Public Land Order.

SUMMARY: This order withdraws 765 acres of public land from location or entry under the United States mining laws for 20 years for the Bureau of Land Management to protect recreational and natural values at the Four Dances Natural Area.

EFFECTIVE DATE: August 22, 2001.

FOR FURTHER INFORMATION CONTACT: Sandra Ward, BLM Montana State Office, 406-896-5052, or Tom Carroll, BLM Billings Field Office, 406-896-5242, P.O. Box 36800, Billings, Montana 59107-6800.

SUPPLEMENTARY INFORMATION: By virtue of the authority vested in the Secretary of the Interior by Section 204 of the Federal Land Policy and Management Act of 1976, 43 U.S.C. 1714 (1994), it is ordered as follows:

1. Subject to valid existing rights, the following described land is hereby withdrawn from location or entry under the United States mining laws (30 U.S.C. Ch. 2 (1994)), to protect recreational and natural values at the Four Dances Natural Area:

Principal Meridian, Montana

PARCEL A: T. 1 N., R. 26 E.,

Sec. 34, S½ of lot 6.

EXCEPTING therefrom the following 2 tracts of land:

1. That part conveyed to the State of Montana for the benefit and use of its State Highway Commission by Bargain and Sale Deed recorded June 16, 1960, in Book 700, Page 407, under Document #643695, records of Yellowstone County, Montana, more particularly described as follows: “938+00 to 945+63

A tract of land in the S½ of lot 6, sec. 34, T. 1 N., R. 26 E., more particularly described as follows:

All that land in said S½ of lot 6 lying on the Northwesterly side of a line which is parallel to and 110 feet distant Southeasterly when measured at right angles from the following described center line:

Beginning at a point on the center line of Montana Interstate Highway Project I 90-8 (5) 433, which said point is South 2107.0 feet, and West 1434.7 feet, more or less, from the Northeast corner of said sec. 34;

Thence from the said point of beginning N. 71°09′30″ E., 200.0 feet to a point;

Also, all that land in said S½ of lot 6 lying on the Northwesterly side of a line which is parallel to and 170 feet distant Southeasterly when measured at right angles from the following described center line;

Thence continuing from the last described point N. 71°09′30″ E., 563.0 feet, more or less, to a point on the center line of said Montana Interstate Highway Project I 90-8 (5) 433, which said point is South 1860.5 feet, and West 712.6 feet, more or less, from the Northeast corner of said sec. 34.”

2. Certificate of Survey No. 2933.

PARCEL B: T. 1 N., R. 26 E.,

Sec. 34, lots 7 and 8, and SE¼SE¼.

PARCEL C: T. 1 N., R. 26 E.,

Sec. 35, That part of the S½NW¼ lying South of the Main Canal of the Lockwood Irrigation Ditch and West of the Coburn Road as said Ditch and Coburn Road existed on September 19, 1940.

EXCEPTING therefrom the following 3 tracts of land:

1. That part conveyed to the State of Montana for the benefit and use of its State Highway Commission by Bargain and Sale Deed recorded February 25, 1964, in Book 783, Page 368, under Document #725524, records of Yellowstone County, Montana, more particularly described as follows: “0+00.0 to 1+06.7 connection road to Coburn Lane

A tract of land in that particular tract of land which is described as the fractional S½NW¼ lying South of the Main Canal of the Lockwood Irrigation Ditch and West of the Coburn Road in sec. 35, T. 1 N., R. 26 E. The tract of land to be conveyed being more particularly described as follows:

All that land in said particular tract of land lying Easterly of a line, which is increasing in distance from 40 feet distant Westerly to 70 feet distant Westerly when measured at right angles from the following described center line:

Beginning at Engineer's Station 0+00.0 on the center line of the connection road to Coburn Lane of the Montana State Highway Project I 90-8 (5) 433, which said Station 0+00.0 is South 1527.5 feet and West 0.2 feet, more or less, from the North Quarter corner of said sec. 35;

Thence N. 2°25′15″ E., 84.3 feet, to Engineer's Station 0+84.3 on said center line of the connection road to Coburn Lane, which said Station 0+84.3 is South 1443.3 feet, and East 3.4 feet, more or less, from said North Quarter corner of said sec. 35; Also, all that land in said particular tract of land lying Easterly of a line which is parallel to and 70 feet distant Westerly when measured at right angles from the following described center line:

Beginning at Engineer's Station 0+93.0 on said center line of the connection road to Coburn Lane, which said Station 0+93.0 is South 1518.8 feet, and East 0.2 feet, more or less, from said North Quarter corner of said sec. 35;

Thence N. 4°39′19″ W., 75.6 feet, to Engineer's Station 1+68.6 on said center line of the connection road to Coburn Lane, which said Station 1+68.6 is South 1359.3 feet, and West 3.5 feet, more or less, from said North Quarter corner of said sec. 35.”

2. Certificate of Survey No. 2933.

3. Certificate of Survey No. 2932.

PARCEL D: T. 1 N., R. 26 E.,

Sec. 35, That part of the SW¼ lying West of the County Road known as the Coburn Road as said Coburn Road existed on September 19, 1940.

PARCEL E: That part of E½NW¼ of sec. 1, T. 1 S., R. 26 E., described as Certificate of Survey No. 827 on file in the office of the Clerk and Recorder of said County, under Document #629995.

PARCEL F: T. 1 S., R. 26 E.,

Sec. 1, lot 4, NE¼SW¼NW¼ and S½SW¼NW¼;

EXCEPTING therefrom the following 2 tracts of land:

1. Certificate of Survey No. 2347-M.

2. Amended Tract 1, Certificate of Survey No. 2347-M.

PARCEL G: T. 1 S., R. 26 E.,

Sec. 2, lots 7, 8, 9, 10 and 11, SE¼NE¼, and NE¼SE¼.

EXCEPTING therefrom the following 2 tracts of land:

1. Certificate of Survey No. 2347-M.

2. Amended Tract 1, Certificate of Survey No. 2347-M.

PARCEL H: T. 1 S., R. 26 E.,

Sec. 1, SW¼;

EXCEPTING therefrom the following 3 tracts of land:

1. That part conveyed to the State of Montana for the benefit and use of its State Highway Commission by Bargain and Sale Deed recorded September 22, 1950, in Book 377, Page 461, under Document #468688, records of Yellowstone County, Montana, more particularly described as follows:

“A tract of land in SE¼SE¼SW¼, sec. 1, T. 1 S., R. 26 E., more particularly described as follows:

Beginning at a point in the said SE¼SE¼SW¼, which said Point is North 53.0 feet, and West 379.0 feet, more or less, from the South quarter corner of said sec. 1;

thence from said point of beginning N. 31°12½′ W., 285.9 feet;

thence S 28°47½′ W., 285.9 feet;

thence N. 88°47½′ E., 285.9 feet to the point of beginning.”

2. That part described as Certificate Of Survey No. 823 on file in the office of the Clerk and Recorder of said County, under Document #627700.

3. Certificate of Survey No. 2865.

PARCEL I: That part of the NW¼NW¼ of sec. 1 and the NE¼NE¼ of sec. 2, T. 1 S., R. 26 E., described as Tract 1, of Certificate of Survey No. 2347-M on file in the office of the Clerk and Recorder of said County, under Document #1371733.

EXCEPT Amended Tract 1, Certificate of Survey No. 2347-M.

The area described contains 765 acres in Yellowstone County.

2. This withdrawal will expire 20 years from the effective date of this order unless, as a result of a review conducted before the expiration date pursuant to Section 204(f) of the Federal Land Policy and Management Act of 1976, 43 U.S.C. 1714(f) (1994), the Secretary determines that the withdrawal shall be extended.

Dated: July 31, 2001.
Gale A. Norton,
Secretary of the Interior.

[FR Doc. 01-21178 Filed 8-21-01; 8:45 am]

BILLING CODE 4310-DN-P s